OFFICE OF PERSONNEL MANAGEMENT

Submission for Review: OPM Form 1203-FX, Occupational Questionnaire

AGENCY: U.S. Office of Personnel Management.

ACTION: 60-Day Notice and request for comments.

SUMMARY: The Automated Systems Management Branch, Office of Personnel Management (OPM) offers the general public and other Federal agencies the opportunity to comment on an existing information collection request (ICR) 3206-0040, Occupational Questionnaire, OPM Form 1203-FX. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 19, 2013. This process is conducted in accordance with 5 CFR 1320.1.

ADDRESSES: Interested persons are invited to submit written comments on this ICR to the Automated Systems Management Branch, Office of Personnel Management, 1900 E Street NW., Washington, DC 20415, Attention: Rachel Cooper or sent via electronic mail to rachel.cooper@opm.gov.

FOR FURTHER INFORMATION CONTACT: A copy of this ICR, with applicable supporting documentation, may be obtained by contacting the Automated Systems Management Branch, Office of Personnel Management, 1900 E Street NW., Washington, DC 20503, Attention: Rachel Cooper or sent via electronic mail to rachel.cooper@opm.gov.

SUPPLEMENTARY INFORMATION: The Occupational Questionnaire is an optical scan form designed to collect applicant information and qualifications in a format suitable for automated processing and to create applicant records for an automated examining system. The 1203 series was commonly referred to as the “Qualifications and Availability Form C.” OPM has re-titled the series as “Occupational Questionnaire” to fit a more generic need. OPM uses this form to carry out its responsibility for open competitive examining for admission to the competitive service in accordance with section 3304, of title 5, United States Code. One change has been made to the form under Section 14, Veterans' Preference. The addition of Sole Survivorship Preference was added to reflect the amended eligibility categories for veterans' preference per Public Law 110-317, the Hubbard Act. Subparagraph (H) established the new category for veterans released or discharged from a period of active duty from the armed forces, after August 28, 2008, by reason of a “sole survivorship discharge.”

Analysis

Agency: Automated Systems Management Branch, Office of Personnel Management.

Title: Occupational Questionnaire, OPM Form 1203-FX.

OMB Number: 3260-0040.

Frequency: On occasion.

Affected Public: Individuals or households.

Number of Respondents: 10,286,701.

Estimated Time Per Respondent: 45 minutes.

Total Burden Hours: 7,715,026.

U.S. Office of Personnel Management.
Elaine Kaplan,
Acting Director.

[FR Doc. 2013-14771 Filed 6-19-13; 8:45 am]

BILLING CODE 6325-43-P